DEPARTMENT OF HEALTH AND HUMAN SERVICES

Administration for Children and Families

Proposed Information Collection Activity; Diaper Distribution Demonstration and Research Pilot Beneficiary Survey

AGENCY: Office of Community Services, Administration for Children and Families, U.S. Department of Health and Human Services.

ACTION: Request for public comments.

SUMMARY: The Office of Community Services (OCS), Administration for Children and Families (ACF), U.S. Department of Health and Human Services, is proposing to continue to collect data to understand diaper need and outcomes for beneficiaries of the Diaper Distribution Demonstration and Research Pilot (DDDRP).

DATES: Comments due November 26, 2024. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The DDDRP beneficiary survey was developed to examine diaper need and outcomes for beneficiaries served by DDDRP. It was piloted under the Formative Data Collections for ACF Program Support information collection (Office of Management and Budget #0970-0531) with the first three cohorts of DDDRP grant recipients. The survey includes an enrollment version, which collects demographic data on the children served and caregivers enrolling the program, along with information about employment, education, and income as well as indicators of diaper need. The follow-up version reduces the number of demographic items to focus on change over time in employment, education, income, and diaper need.

Respondents: Respondents are the caregivers enrolling their family members with diaper needs in DDDRP services.

Annual Burden Estimates:

Instrument | Total number of respondents | Total number of responses per respondent | Average burden hours per response | Total burden hours | Annual burden hours
Beneficiary Survey—Enrollment Version | 63,750 | 1 | .083 | 5,291.25 | 1,763.75
Beneficiary Survey—Follow-Up Version | 22,500 | 1 | .067 | 1,507.5 | 502.5

Estimated Total Annual Burden Hours: 2,266.25.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 1110, Social Security Act, 42 U.S.C. 1310.

Mary C. Jones,
ACF/OPRE Certifying Officer.

[FR Doc. 2024-22132 Filed 9-26-24; 8:45 am]

BILLING CODE 4184-24-P